NUCLEAR REGULATORY COMMISSION

[NRC-2020-0041]

Survey of NRC's Materials Licensees

AGENCY: Nuclear Regulatory Commission.

ACTION: Information Collection; Licensee Survey.

SUMMARY: The U.S. Nuclear Regulatory Commission (NRC) is conducting a survey of its materials licensees to gather data to inform its decision on a future rulemaking action. The NRC established a nuclear-industry-specific size standard for categorizing the size of small business entities. The responses to this survey will provide the information necessary for the NRC to reassess, and potentially revise, its small entity size standards.

DATES: Submit your response to the survey by April 30, 2020. Survey responses received after this date will be used if it is practical to do so, but the NRC is able to ensure use only for responses received on or before this date.

ADDRESSES: You may submit a response to the survey by any of the following methods:

• Complete the Survey electronically through the internet: This Survey can be accessed, and responses entered, on the NRC public website at www.NRC.gov. At the bottom of the first screen under the section titled, ABOUT US, click on LICENSE FEES. Next screen, click in the box titled RELATED INFORMATION, click on the item Small Entity Classification Survey. Proceed to complete the survey.

• Mail completed Survey response: Responses can be submitted through the regular U.S. mail. Licensees will be mailed a paper Survey with an NRC-addressed, business reply return envelop included. All U.S. mail replies should be addressed to: U.S. Nuclear Regulatory Commission, LFPT/OCFO Mail Stop: T-9B50, 11555 Rockville Pike, Rockville, MD 20852-2738.

FOR FURTHER INFORMATION CONTACT: Anthony Rossi, Office of the Chief Financial Officer, telephone: 301-415-7341; email: Anthony.Rossi@nrc.gov; or, Jo Jacobs, Office of the Chief Financial Officer, telephone: 301-415-8388; email: Jo.Jacobs@nrc.gov. Both are staff of the U.S. Nuclear Regulatory Commission, Washington, DC 20555-0001.

I. Discussion

The NRC has established its own standards for categorizing the size of small business entities in section 2.810 of title 10 of the Code of Federal Regulations (CFR), “NRC Size Standards.” The agency's standards differ from those of the Small Business Administration (SBA) because NRC licensees do not align with SBA size standard classifications. The NRC has established its standards in consultation with the administrator of SBA in accordance with their regulations in 13 CFR 121.903.

The Omnibus Budget and Reconciliation Act of 1990 (OBRA-90), as amended, requires the NRC to recover 90 percent of the annual budget through fees. Since the agency has not surveyed its materials licensees since 1993, the NRC is conducting this survey to gather financial data to determine if a change is needed to the size standards. Without conducting a survey, the NRC does not have the data needed to determine the impact of changing the current nuclear industry-specific size standards. The results of the analysis will be used to provide a recommendation to the Commission that is backed with sound factual data.

II. Additional Information

Licensees may complete the survey online or submit in hard copy by U.S. mail in accordance with the instructions in the ADDRESSES section of this document. For questions regarding the survey, contact staff listed in the FOR FURTHER INFORMATION CONTACT section of this document.

III. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883). The NRC requests comment on this document with respect to the clarity and effectiveness of the language used.

IV. Paperwork Reduction Act

This survey is an information collection that has been approved by the Office of Management and Budget under OMB Control No. 3150-0242. The estimated burden to respond to this voluntary information collection is 20 minutes. This collection is a voluntary effort to gather financial data to determine if a change is needed for 10 CFR 2.810, “NRC Size Standards.” Send comments regarding the burden estimate to the Information Services Branch, U.S. Nuclear Regulatory Commission, Washington, DC 20555-0001, or by email to infocollects.resource@nrc.gov, and to the Desk Officer, Office of Information and Regulatory Affairs, NEOB-10202, (3150-0242), Office of Management and Budget, Washington, DC 20503.

Public Protection Notification

The NRC may not conduct or sponsor, and a person is not required to respond to, a collection of information unless the document requesting or requiring the collection displays a currently valid OMB control number.

Dated at Rockville, Maryland, this 30th day of January, 2020.
For the Nuclear Regulatory Commission.
L. Benedict Ficks,
Acting Chief Financial Officer.

The Survey is attached.

BILLING CODE 7590-01-P

[FR Doc. 2020-02135 Filed 2-3-20; 8:45 am]

BILLING CODE 7590-01-P